COMMISSION ON CIVIL RIGHTS

Sunshine Act Notice

AGENCY: United States Commission on Civil Rights.

ACTION: Notice of meeting.

Date and Time: Friday, January 15, 2010; 9:30 a.m. EST.

Place: 624 9th St., NW., Room 540, Washington, DC 20425.

Meeting Agenda

This meeting is open to the public.

I. Approval of Agenda

II. Program Planning

• Approval of Briefing Report on the Impact of Illegal Immigration on the Wages and Employment of Black Workers

• Approval of Briefing Report on Covert Wiretapping in the War on Terror

• Multi-Ethnic Placement Act Briefing Report

• Consideration of Findings & Recommendations

• Motion to Approve MEPA Finding #9

• Motion to Approve MEPA Recommendation #3

• Motion to Approve MEPA Recommendation #8

• Consideration of Timeline for MEPA Concurring/Dissenting Opinions & Rebuttals

• Approval of Follow-up Letter regarding Louisiana Justice of the Peace

• Discussion and possible letter involving new SEC corporate disclosure rule re: diversity

• Update & Action on Status of Collection and Web Posting of Documents for Commission Clearinghouse Project

• Update on Status of the 2010 Enforcement Report

• Consideration of Reporting Procedures for the Discovery Subcommittee on the 2010 Enforcement Report

• Update on Status of Title IX Project

II. State Advisory Committee Issues

• Pennsylvania

IV. Approval of December 16, 2009 Meeting Minutes

V. Staff Director's Report

VI. Adjourn

FOR FURTHER INFORMATION CONTACT: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: January 5, 2010.
David Blackwood,
General Counsel.

[FR Doc. 2010-141 Filed 1-5-10; 4:15 pm]

BILLING CODE 6335-01-P